DEPARTMENT OF STATE

[Public Notice 11943]

Secretary of State's Determinations Under The International Religious Freedom Act of 1998 and Frank R. Wolf International Religious Freedom Act of 2016

Pursuant to Section 408(a) of the International Religious Freedom Act of 1998 (Pub. L. 105-292), as amended (the Act), notice is hereby given that, on November 30, 2022, the Secretary of State, under authority delegated by the President, has designated each of the following as a “country of particular concern” (CPC) under section 402(b) of the Act, for having engaged in or tolerated particularly severe violations of religious freedom: Burma, China, Cuba, Eritrea, Iran, the Democratic People's Republic of Korea, Nicaragua, Pakistan, Russia, Saudi Arabia, Tajikistan, and Turkmenistan. The Secretary simultaneously designated the following as satisfying the requirement to take Presidential Action for these CPCs:

For Burma, the existing ongoing restrictions referenced in 22 CFR 126.1, pursuant to section 402(c)(5) of the Act;

For China, the existing ongoing restriction on exports to China of crime control or detection instruments or equipment, under the Foreign Relations Authorization Act, Fiscal Years 1990 and 1991 (Pub. L. 101-246), pursuant to section 402(c)(5) of the Act;

For Cuba, the existing ongoing restrictions referenced in 31 CFR 515.201 and the Cuban Liberty and Democratic Solidarity (LIBERTAD) Act of 1996 (Helms-Burton Act), pursuant to section 402(c)(5) of the Act;

For the Democratic People's Republic of Korea, the existing ongoing restrictions to which the Democratic People's Republic of Korea is subject, pursuant to sections 402 and 409 of the Trade Act of 1974 (the Jackson-Vanik Amendment), and pursuant to section 402(c)(5) of the Act;

For Eritrea, the existing ongoing restrictions referenced in 22 CFR 126.1, pursuant to section 402(c)(5) of the Act;

For Iran, the existing ongoing travel restrictions in section 221(c) of the Iran Threat Reduction and Syria Human Rights Act of 2012 (TRA) for individuals identified under section 221(a)(1)(C) of the TRA in connection with the commission of serious human rights abuses, pursuant to section 402(c)(5) of the Act;

For Nicaragua, the existing ongoing restrictions referenced in section 5 of the Nicaragua Investment Conditionality Act of 2018 (the NICA Act)

For Pakistan, a waiver as required in the “important national interest of the United States,” pursuant to section 407 of the Act;

For Russia, the existing ongoing sanctions issued for individuals identified pursuant to section 404(a)(2) of the Russia and Moldova Jackson-Vanik Repeal and Sergei Magnitsky Rule of Law Accountability Act of 2012 and section 11 of the Support for the Sovereignty, Integrity, Democracy, and Economic Stability of Ukraine Act of 2014, as amended by Section 228 of the Countering America's Adversaries Through Sanctions Act, pursuant to section 402(c)(5) of the Act;

For Saudi Arabia, a waiver as required in the “important national interest of the United States,” pursuant to section 407 of the Act;

For Tajikistan, a waiver as required in the “important national interest of the United States,” pursuant to section 407 of the Act; and

For Turkmenistan, a waiver as required in the “important national interest of the United States,” pursuant to section 407 of the Act.

In addition, the Secretary of State has designated the following countries as “special watch list” countries for engaging in or tolerating severe violations of religious freedom: Algeria, the Central African Republic, Comoros, and Vietnam.

Pursuant to Section 408(a) of the International Religious Freedom Act of 1998 (Pub. L. 105-292), notice is hereby given that, on November 30, 2022, the Secretary of State, under authority delegated by the President, has designated each of the following as an “entity of particular concern” under section 301 of the Frank R. Wolf International Religious Freedom Act of 2016 (Pub. L. 114-281), for having engaged in particularly severe violations of religious freedom: Al-Shabaab, Boko Haram, Hayat Tahrir al-Sham, the Houthis, ISIS-Sahel (formerly known as ISIS in the Greater Sahara), ISIS-West Africa, Jamaat Nasr al-Islam wal Muslimin, the Taliban, and Wagner Group based on its actions in the Central African Republic.

FOR FURTHER INFORMATION CONTACT: Carter Allen, Office of International Religious Freedom, U.S. Department of State, (Phone: (202) 718-1792 or Email: AllenCG@state.gov).

Carson Relitz Rocker,
Acting Director, Office of International Religious Freedom, Department of State.

[FR Doc. 2022-28311 Filed 12-28-22; 8:45 am]

BILLING CODE 4710-18-P